ENVIRONMENTAL PROTECTION AGENCY

DEPARTMENT OF TRANSPORTATION

[EPA-HQ-OAR-2015-0827; NHTSA-2016-0068; FRL-9949-54-OAR]

RIN 2060-AS97; RIN 2127-AL76

Notice of Availability of Midterm Evaluation Draft Technical Assessment Report for Model Year 2022-2025 Light Duty Vehicle GHG Emissions and CAFE Standards

AGENCY: Environmental Protection Agency (EPA) and Department of Transportation (DOT), National Highway Traffic Safety Administration (NHTSA).

ACTION: Notice.

SUMMARY: The Environmental Protection Agency (EPA) and the National Highway Traffic Safety Administration (NHTSA) have established a coordinated National Program for Federal standards for greenhouse gas (GHG) emissions and corporate average fuel economy (CAFE) for light-duty vehicles. As part of that National Program, EPA and NHTSA, along with the California Air Resources Board (CARB), have jointly prepared and are requesting comment on a Draft Technical Assessment Report. In the Draft Technical Assessment Report, the agencies examine a wide range of issues relevant to GHG emissions and CAFE standards for model years (MY) 2022-2025, and share with the public their initial technical analyses of those issues. EPA is required to prepare the Draft Technical Assessment Report by its rules which establish the Midterm Evaluation. The draft TAR is the first formal step in the Midterm Evaluation process. NHTSA is participating in the Midterm Evaluation process as part of its de novo rulemaking to establish final CAFE standards for MY 2022-2025. CARB, in its support of the National Program in lieu of a separate California program, committed to participating in the Midterm Evaluation process. The agencies will fully consider public comments received on the Draft Technical Assessment Report as they proceed with the Midterm Evaluation.

DATES: Comments: In order for comments to be most helpful to this ongoing Midterm Evaluation process, the agencies encourage parties wishing to comment on the Draft Technical Assessment Report to submit their comments by September 26, 2016. See the SUPPLEMENTARY INFORMATION section for more information about the Midterm Evaluation process and the Draft Technical Assessment Report.

ADDRESSES: Submit your comments, identified by Docket ID No. EPA-HQ-OAR-2015-0827 and/or Docket No. NHTSA-2016-0068, to the Federal eRulemaking Portal: http://www.regulations.gov. Follow the online instructions for submitting comments. Once submitted, comments cannot be edited or withdrawn. The EPA and NHTSA may publish any comment received to its public docket. Do not submit electronically any information you consider to be Confidential Business Information (CBI) or other information whose disclosure is restricted by statute. Multimedia submissions (audio, video, etc.) must be accompanied by a written comment. The written comment is considered the official comment and should include discussion of all points you wish to make. The EPA and NHTSA will not consider comments or comment contents located outside of the submission to the official dockets (i.e., located elsewhere on the web, cloud, or in another file sharing system). For additional submission methods, the full EPA public comment policy, information about CBI or multimedia submissions, and general guidance on making effective comments, please visit http://www2.epa.gov/dockets/commenting-epa-dockets.

NHTSA also allows comments to be submitted by the following methods:

• Mail: Docket Management Facility, M-30, U.S. Department of Transportation, West Building, Ground Floor, Rm. W12-140, 1200 New Jersey Avenue SE., Washington, DC 20590.

• Hand Delivery: West Building, Ground Floor, Rm. W12-140, 1200 New Jersey Avenue SE., Washington, DC 20590, between 9 a.m. and 4 p.m. Eastern Time, Monday through Friday, except Federal holidays.

Since CARB is a joint author on the Draft Technical Assessment Report, the agencies are requesting that commenters, in addition to submitting comments to the EPA and/or NHTSA docket, also submit their comments directly to CARB at: http://www.arb.ca.gov/lispub/comm2/bcsubform.php?listname=drafttar2016-ws.

FOR FURTHER INFORMATION CONTACT:

EPA: Christopher Lieske, Office of Transportation and Air Quality, Assessment and Standards Division, Environmental Protection Agency, 2000 Traverwood Drive, Ann Arbor, MI 48105; telephone number: 734-214-4584; fax number: 734-214-4816; email address: lieske.christopher@epa.gov

NHTSA: Rebecca Yoon, Office of Chief Counsel, National Highway Traffic Safety Administration, 1200 New Jersey Avenue SE., Washington, DC 20590. Telephone: (202) 366-2992, email: rebecca.yoon@dot.gov.

SUPPLEMENTARY INFORMATION:

A. Public Participation

NHTSA and EPA request comment on all aspects of the Draft Technical Assessment Report discussed below. This section describes how you can participate in this process.

How do I prepare and submit comments?

For the convenience of all parties, comments submitted to the EPA docket will be considered comments submitted to the NHTSA docket, and vice versa. Therefore, commenters only need to submit comments to either one of the two agency dockets, although they may choose to submit comments to both. Comments that are submitted for consideration by one agency should be identified as such, and comments that are submitted for consideration by both agencies should be identified as such. Absent such identification, each agency will exercise its best judgment to determine whether a comment is directed at its individual work.

Further instructions for submitting comments to either the EPA or NHTSA docket are described below.

EPA: Direct your comments to Docket ID No. EPA-HQ-OAR-2015-0827. EPA's policy is that all comments received will be included in the public docket without change and may be made available online at www.regulations.gov, including any personal information provided, unless the comment includes information claimed to be Confidential Business Information (CBI) or other information whose disclosure is restricted by statute.¹ Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

¹ This statement constitutes notice to commenters pursuant to 40 CFR 2.209(c) that EPA will share confidential information received with NHTSA unless commenters specify that they wish to submit their CBI only to EPA and not to both agencies.

NHTSA: Your comments must be written and in English. To ensure that your comments are correctly filed in the Docket, please include the Docket number NHTSA-2016-0068 in your comments. Your comments must not be more than 15 pages long. NHTSA established this limit to encourage you to write your primary comments in a concise fashion. However, you may attach necessary additional documents to your comments. There is no limit on the length of the attachments. If you are submitting comments electronically as a PDF (Adobe) file, we ask that the documents submitted be scanned using the Optical Character Recognition (OCR) process, thus allowing the agencies to search and copy certain portions of your submissions. Please note that pursuant to the Data Quality Act, in order for the substantive data to be relied upon and used by the agencies, it must meet the information quality standards set forth in the OMB and Department of Transportation (DOT) Data Quality Act guidelines. Accordingly, we encourage you to consult the guidelines in preparing your comments. OMB's guidelines may be accessed at http://www.whitehouse.gov/omb/fedreg/reproducible.html. DOT's guidelines may be accessed at http://www.dot.gov/dataquality.htm.

Tips for Preparing Your Comments

When submitting comments, remember to:

• Identify the action by docket number and other identifying information (subject heading, Federal Register date and page number).

• Explain why you agree or disagree, suggest alternatives, and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified in the DATES section above.

How can I be sure that my comments were received?

NHTSA: If you submit your comments by mail and wish Docket Management to notify you upon its receipt of your comments, enclose a self-addressed, stamped postcard in the envelope containing your comments. Upon receiving your comments, Docket Management will return the postcard by mail.

How do I submit confidential business information?

Any confidential business information (CBI) submitted to one of the agencies will also be available to the other agency. However, as with all public comments, any CBI information only needs to be submitted to either one of the agencies' dockets and it will be available to the other. Following are specific instructions for submitting CBI to either agency.

EPA: Do not submit CBI to EPA through http://www.regulations.gov or email. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

NHTSA: If you wish to submit any information under a claim of confidentiality, you should submit three copies of your complete submission, including the information you claim to be confidential business information, to the Chief Counsel, NHTSA, at the address given below under FOR FURTHER INFORMATION CONTACT. When you send a comment containing confidential business information, you should include a cover letter setting forth the information specified in our confidential business information regulation.²

² See 49 CFR part 512.

In addition, you should submit a copy from which you have deleted the claimed confidential business information to the Docket by one of the methods set forth above.

How can I read the comments submitted by other people?

You may read the materials placed in the docket for this document (e.g., the comments submitted in response to this document by other interested persons) at any time by going to http://www.regulations.gov. Follow the online instructions for accessing the dockets. You may also read the materials at the EPA Docket Center (details provided at https://www.epa.gov/dockets/epa-docket-center-reading-room) or NHTSA Docket Management Facility by going to the street addresses given above under ADDRESSES.

B. Overview of the Midterm Evaluation and the Draft Technical Assessment Report

The EPA and NHTSA have conducted two joint rulemakings to establish a coordinated National Program for stringent Federal CAFE and GHG emissions standards for light-duty vehicles. The agencies finalized the first set of National Program standards covering MYs 2012-2016 in May 2010 ³ and the second set of standards, covering MYs 2017-2025 for EPA and final standards for 2017-2021 and augural standards for 2022 to 2025 for NHTSA, in October 2012.⁴ The National Program establishes standards that increase in stringency year-over-year from MY 2012 through the final years of the program. Through the coordination of the National Program with the California standards, automakers can build one single fleet of vehicles across the U.S. that satisfies all applicable requirements, and consumers can continue to have a full range of vehicle choices that meet their needs. In the 2012 final rule, the agencies projected that the National Program would reach a level by 2025 that nearly doubles fuel economy and cuts GHG emissions in half as compared to MY 2008, and would reduce carbon dioxide (CO2) pollution by 6 billion metric tons and oil consumption by 12 billion barrels over the lifetime of MY 2012-2025 vehicles. In addition, the standards are projected to provide significant savings for consumers due to reduced fuel use, and thus reduced expenditures on fuel.

³ 75 FR 25324, May 7, 2010.

⁴ 77 FR 62624, October 15, 2012.

The rulemaking establishing the National Program for MY 2017-2025 light-duty vehicles included a regulatory requirement for EPA to conduct a Midterm Evaluation (MTE) of the GHG standards established for MYs 2022-2025.⁵ The 2012 final rule preamble also states that “[t]he mid-term evaluation reflects the rules' long time frame, and, for NHTSA, the agency's statutory obligation to conduct a de novo rulemaking in order to establish final standards for MYs 2022-2025.” NHTSA will consider information gathered as part of the MTE record, including information submitted through public comments, in the comprehensive de novo rulemaking it must undertake to set CAFE standards for MYs 2022-2025. Through the MTE, EPA will determine no later than April 1, 2018 whether the GHG standards for MYs 2022-2025, established in 2012, are still appropriate, within the meaning of section 202(a) of the Clean Air Act, in light of the record then before the Administrator, given the latest available data and information. See 40 CFR 86.1818-12(h). EPA's decision could go one of three ways: The standards remain appropriate, the standards should be less stringent, or the standards should be more stringent. In addition, “[i]n order to align the agencies' proceedings for MYs 2022-2025 and to maintain a joint national program, EPA and NHTSA will finalize their actions related to MYs 2022-2025 standard concurrently. If the EPA determination is that the standards may change, the agencies will issue a joint NPRM and joint final rules.” See 77 FR 62628 (October 15, 2012).

⁵ See 40 CFR 86.1818-12(h).

The MTE is a collaborative, data-driven, and transparent process that will be a holistic assessment of all of factors considered in standards setting, and the expected impact of those factors on manufacturers' ability to comply, without placing decisive weight on any particular factor or projection. See 77 FR 62784 (October 15, 2012). The MTE analysis is to be as robust and comprehensive as that in the original 2012 final rule. Id. EPA and NHTSA also are closely coordinating with the California Air Resources Board (CARB) in conducting the MTE to better ensure the continuation of the National Program. Id. The agencies fully expect to conduct the MTE in close coordination with CARB.

The Draft TAR is the first formal step in the MTE process and is being issued jointly by EPA, NHTSA, and CARB for public comment. EPA is required to prepare and seek public comment on the Draft TAR.⁶ The Draft TAR is a technical report, not a decision document. The Draft TAR is an opportunity for all three agencies to share with the public the initial technical analyses of a wide range of issues relevant to the MY 2022-2025 standards. The Draft TAR is a first step in the process that will ultimately inform, for EPA, whether the MY 2022-2025 GHG standards adopted by EPA in 2012 should remain in place or should change, and, for NHTSA, what MY 2022-2025 CAFE standards will be maximum feasible under the Energy Policy and Conservation Act (EPCA), as amended by the Energy Independence and Security Act (EISA) of 2007 (49 U.S.C. 32902). The preamble to the 2012 final rule states that “[t]he TAR will examine the same issues and underlying analyses and projections considered in the original rulemaking including technical and other analyses related to each agency's authority to set standards as well as any relevant new issues that may present themselves.” 77 FR 62784 (October 15, 2012).

⁶ See 40 CFR 86.1818-12(h)(2)(i).

The agencies have conducted extensive research and analyses to support the MTE, as discussed throughout the Draft TAR. As part of gathering robust data and information to inform the MTE, the agencies also have conducted extensive outreach with a wide range of stakeholders—including auto manufacturers, automotive suppliers, non-governmental organizations, consumer groups, labor unions, state and local governments, the academic and research communities, and others. Among other things, the Draft TAR presents analyses reflecting this research and information obtained during the agencies' outreach, presents updated assessments of available technologies' effectiveness and costs since the 2012 final rule, and offers an opportunity for public comment on the agencies' analyses thus far. The agencies will fully consider public comments on the Draft TAR as they continue the MTE process.

The Draft TAR and related materials are available in the public dockets for this action (see ADDRESSES above) and at https://www3.epa.gov/otaq/climate/mte.htm and http://www.nhtsa.gov/Laws+&+Regulations/CAFE+-+Fuel+Economy/ld-cafe-midterm-evaluation-2022-25.

Dated: July 15, 2016.
Anthony R. Foxx,
Secretary, Department of Transportation.
Dated: July 15, 2016.
Gina McCarthy,
Administrator, Environmental Protection Agency.

[FR Doc. 2016-17649 Filed 7-26-16; 8:45 am]

BILLING CODE 6560-50-P